DEPARTMENT OF LABOR

[OMB Control No. 1293-0NEW]

Correction; Homeless Veterans' Reintegration Program Budget and Narrative

AGENCY: Veterans' Employment and Training Service (VETS), Labor.

ACTION: Correction notice.

SUMMARY: In the notice appearing on page 52710 in the issue of Friday, November 21st, 2025, Volume 90, the following corrections are to be made. Under the SUPPLEMENTARY INFORMATION section it stated the 60 Day Federal Register Notice was published November 14, 2024 (89 FR 90054) and that needs to be corrected to June 10, 2025 (90 FR 24416).

Nicole Bouchet,
Senior PRA Analyst.

[FR Doc. 2025-21110 Filed 11-25-25; 8:45 am]

BILLING CODE 4510-79-P